SMALL BUSINESS ADMINISTRATION

[Declaration of Disaster #3272; Amendment #2]

State of Wisconsin

In accordance with a notice from the Federal Emergency Management Agency, dated July 19, 2000, the above-numbered Declaration is hereby amended to establish the incident period for this disaster as beginning on May 26, 2000 and continuing through July 19, 2000.

All other information remains the same, i.e., the deadline for filing applications for physical damage is September 9, 2000 and for economic injury the deadline is April 11, 2001.

(Catalog of Federal Domestic Assistance Program Nos. 59002 and 59008)

Dated: July 24, 2000.
Becky C. Brantley,
Acting Associate Administrator for Disaster Assistance.

[FR Doc. 00-20394 Filed 8-10-00; 8:45 am]

BILLING CODE 8025-01-P